COMMITTEE FOR THE IMPLEMENTATION OF TEXTILE AGREEMENTS

Determination under the Textile and Apparel Commercial Availability Provision of the Dominican Republic-Central America-United States Free Trade Agreement (CAFTA-DR Agreement)

June 6, 2008.

AGENCY: The Committee for the Implementation of Textile Agreements

ACTION: Determination to add a product in unrestricted quantities to Annex 3.25 of the CAFTA-DR Agreement

EFFECTIVE DATE: June 11, 2008.

SUMMARY: The Committee for the Implementation of Textile Agreements (CITA) has determined that certain 100% cotton woven indigo-dyed fabric, as specified below, is not available in commercial quantities in a timely manner in the CAFTA-DR region. The product will be added to the list in Annex 3.25 of the CAFTA-DR in unrestricted quantities.

FOR FURTHER INFORMATION CONTACT: Maria Dybczak, Office of Textiles and Apparel, U.S. Department of Commerce, (202) 482 3651.

FOR FURTHER INFORMATION ON-LINE: http://web.ita.doc.gov/tacgi/CaftaReqTrack.nsf. Reference number: 66.2008.05.06.Fabric.ST&RforBWA

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the Act.

The CAFTA-DR Act requires the President to establish procedures governing the submission of a request and providing opportunity for interested entities to submit comments and supporting evidence before a commercial availability determination is made. In Presidential Proclamations 7987 and 7996, the President delegated to CITA the authority under section 203(o)(4) of CAFTA-DR Act for modifying the Annex 3.25 list. On March 21, 2007, CITA published final procedures it would follow in considering requests to modify the Annex 3.25 list (72 FR 13256).

On May 6, 2008, the Chairman of CITA received a request from Sandler, Travis, & Rosenberg, P.A. on behalf of B*W*A for certain 100% cotton woven indigo-dyed fabrics, of the specifications detailed below. On May 7, 2008, CITA notified interested parties of, and posted on its website, the accepted petition and requested that interested entities provide, by May 20, 2008, a response advising of its objection to the request or its ability to supply the subject product, and rebuttals to responses by May 27, 2008. No interested entity filed a response advising of its objection to the request or its ability to supply the subject product.

In accordance with Section 203(o)(4) of the CAFTA-DR Act, and its procedures, as no interested entity submitted a response objecting to the request or expressing an ability to supply the subject product, CITA has determined to add the specified fabrics to the list in Annex 3.25 CAFTA-DR Agreement.

The subject fabrics are added to the list in Annex 3.25 CAFTA-DR Agreement in unrestricted quantities. A revised list has been published on-line.

Specifications:
HTS: 5208.39.6090 and 5208.39.8090
Fiber Content: 100% combed cotton
Average Yarn Number:
Metric: 64/2 + 64/1 x 64/1 to 71/2 + 71/1 x 71/2
English: 38/2 + 38/1 x 38/1 to 42/2 + 42/1 x 42/1
Construction: Woven with a dobby attachment
Weight:
Metric: 135-149 gms/sq. mtr.
English: 4.0 - 4.4 oz./sq. yd.
Width:
Metric: 135-149 cm.
English: 53-59 in.
Finish: Piece dyed with synthetic indigo, color index no: 73000

R. Matthew Priest,
Chairman, Committee for the Implementation of Textile Agreements.

[FR Doc. E8-13072 Filed 6-10-08; 8:45 am]

BILLING CODE 3510-DS-S